DEPARTMENT OF HEALTH AND HUMAN SERVICES

National Institutes of Health

National Cancer Institute; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant and contract applications and the discussions could disclose confidential trade secrets or commercial property such as patentable material, and personal information concerning individuals associated with the grant and contract applications, the disclosure of which would constitute a clearly unwarranted invasion of personal privacy.

Name of Committee: National Cancer Institute Special Emphasis Panel; NCI SBIR Targeted Radiation Therapy.

Date: January 27, 2016.

Time: 10:30 a.m. to 6:30 p.m.

Agenda: To review and evaluate contract applications.

Place: National Cancer Institute Shady Grove, 9609 Medical Center Drive, Room 7W538, Rockville, MD 20850, (Telephone Conference Call).

Contact Person: Ivan Ding, MD, Scientific Review Officer, Special Review Branch, Division of Extramural Activities, National Cancer Institute, NIH, 9609 Medical Center Drive, Room 7W412, Bethesda, MD 20892-9750, 240-276-6444, dingi@mail.nih.gov.

Name of Committee: National Cancer Institute Special Emphasis Panel; Physical Sciences-Oncology Projects.

Date: February 9-10, 2016.

Time: 6:00 p.m. to 6:00 p.m.

Agenda: To review and evaluate grant applications.

Place: Doubletree by Hilton Bethesda, 8120 Wisconsin Avenue, Bethesda, MD 20814.

Contact Person: Gerald G. Lovinger, Ph.D., Scientific Review Officer, Research and Technology and Contract Review Branch, Division of Extramural Activities, National Cancer Institute, NIH, 9609 Medical Center Drive, Room 7W266, Bethesda, MD 20892, 240-276-6385, lovingeg@mail.nih.gov.

Name of Committee: National Cancer Institute Initial Review Group; Subcommittee I-Transition to Independence.

Date: February 23-24, 2016.

Time: 8:00 a.m. to 1:00 p.m.

Agenda: To review and evaluate grant applications.

Place: Bethesda North Marriott Hotel & Conference Center, 5701 Marinelli Road, Bethesda, MD 20852.

Contact Person: Tushar Baran Deb, Ph.D., Scientific Review Officer, Research and Training Review Branch, Division of Extramural Activities, National Cancer Institute, NIH, 9609 Medical Center Drive, Room 7W624, Rockville, MD 20850, 240-276-6132 tushar.deb@nih.gov.

Name of Committee: National Cancer Institute Initial Review Group; Subcommittee J—Career Development.

Date: March 2-3, 2016.

Time: 6:00 p.m. to 4:00 p.m.

Agenda: To review and evaluate grant applications.

Place: Bethesda Marriott, Suites 6711, Democracy Boulevard, Bethesda, MD 20817.

Contact Person: Robert E. Bird, Ph.D., Scientific Review Officer, Research and Training Review Branch, Division of Extramural Activities, National Cancer Institute, NIH, 9609 Medical Center Drive, Room 7W110, Bethesda, MD 20892, 240-276-6344, birdr@mail.nih.gov.

Name of Committee: National Cancer Institute Special Emphasis Panel; NCI Omnibus R03 & R21 SEP-1.

Date: March 3-4, 2016.

Time: 8:00 a.m. to 6:00 p.m.

Agenda: To review and evaluate grant applications.

Place: Doubletree by Hilton Bethesda, 8120 Wisconsin Avenue, Bethesda, MD 20814.

Contact Person: Zhiqiang Zou, MD, Ph.D., Scientific Review Officer, Special Review Branch, Division of Extramural Activities, National Cancer Institute, NIH, 9609 Medical Center Drive, Room 7W242, Bethesda, MD 20892, 240-276-6372, zouzhiq@mail.nih.gov.

Name of Committee: National Cancer Institute Special Emphasis Panel; Cancer Diagnosis.

Date: April 4-5, 2016.

Time: 8:30 a.m. to 12:00 p.m.

Agenda: To review and evaluate contract applications.

Place: Bethesda North Marriott Hotel & Conference Center, 5701 Marinelli Road, Bethesda, MD 20852.

Contact Person: Bratin K. Saha, Ph.D., Program Coordination & Referral Branch, Division of Extramural Activities, National Cancer Institute, NIH, 9609 Medical Center Drive, Room 7W556, Rockville, MD 20850, 240-276-6411, sahab@mail.nih.gov.

Name of Committee: National Cancer Institute Special Emphasis Panel; NCI Provocative Questions Review—PQ 12.

Date: April 6, 2016.

Time: 10:00 a.m. to 12:00 p.m.

Agenda: To review and evaluate grant applications.

Place: National Cancer Institute, Shady Grove, 9609 Medical Center Drive, Room 7W126, Rockville, MD 20850, (Telephone Conference Call).

Contact Person: Caron A. Lyman, Ph.D., Chief, Scientific Review Officer, Research Program Review Branch, Division of Extramural Activities, National Cancer Institute, NIH, 9609 Medical Center Drive, Room 7W126, Bethesda, MD 20892-9750, 240-276-6348, lymanc@mail.nih.gov.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: December 28, 2015.
Melanie J. Gray,
Program Analyst, Office of Federal Advisory Committee Policy.

[FR Doc. 2015-32935 Filed 12-30-15; 8:45 am]

BILLING CODE 4140-01-P